DEPARTMENT OF JUSTICE

Antitrust Division

Notice Pursuant to the National Cooperative Research and Production Act of 1993—Digital Manufacturing Design Innovation Institute

Notice is hereby given that, on April 1, 2020, pursuant to Section 6(a) of the National Cooperative Research and Production Act of 1993, 15 U.S.C. 4301 et seq. (“the Act”), Digital Manufacturing Design Innovation Institute (“DMDII”) has filed written notifications simultaneously with the Attorney General and the Federal Trade Commission disclosing changes in its membership. The notifications were filed for the purpose of extending the Act's provisions limiting the recovery of antitrust plaintiffs to actual damages under specified circumstances. Specifically, Horizon Controls Group, Inc., Blue Bell, PA; ShapeMatrix, Brooklyn, NY; Task Watch, Mason, OH; Elementary Robotics, Pasadena, CA; RYE Consulting, Chicago, IL; Virginia Polytechnic Institute and State University, Blacksburg, VA; Drexel University, Philadelphia, PA have been added as parties to this venture.

Also, Astronautics Corporation of America, Milwaukee, WI has withdrawn a party to this venture.

No other changes have been made in either the membership or planned activity of the group research project. Membership in this group research project remains open and DMDII intends to file additional written notifications disclosing all changes in membership.

On January 5, 2016, DMDII filed its original notification pursuant to Section 6(a) of the Act. The Department of Justice published a notice in the Federal Register pursuant to Section 6(b) of the Act on March 9, 2016 (81 FR 12525).

The last notification was filed with the Department on January 2, 2020. A notice was published in the Federal Register pursuant to Section 6(b) of the Act on January 30, 2020 (85 FR 5478).

Suzanne Morris,
Chief, Premerger and Division Statistics Unit, Antitrust Division.

[FR Doc. 2020-08125 Filed 4-16-20; 8:45 am]

BILLING CODE 4410-11-P